DEPARTMENT OF DEFENSE

GENERAL SERVICES ADMINISTRATION

NATIONAL AERONAUTICS AND SPACE ADMINISTRATION

[OMB Control No. 9000-0102; Docket No. 2019-0003; Sequence No. 21]

Information Collection; Prompt Payment

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning prompt payment.

DATES: Submit comments on or before: July 15, 2019.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0102, Prompt Payment.

Instructions: All items submitted must cite Information Collection 9000-0102, Prompt Payment. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Mr. Kevin Funk, Procurement Analyst, at telephone 202-357-5805, or via email at kevin.funk@gsa.gov.

SUPPLEMENTARY INFORMATION:

A. Overview of Information Collection

Description of the Information Collection

1. Type of Information Collection—Revision/Renewal of a currently approved collection.

2. Title of the Collection—Prompt Payment.

3. Agency form number, if any— None.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

Paragraph (c) of the clause at Federal Acquisition Regulation (FAR) 52.232-5, Payments Under Fixed-Price Construction Contracts, requires that contractors under fixed-price construction contracts certify, for every progress payment request, that payments to subcontractors/suppliers have been made from previous payments received under the contract and timely payments will be made from the proceeds of the payment covered by the certification, and that this payment request does not include any amount which the contractor intends to withhold from a subcontractor/supplier.

Paragraphs (e) and (g) of the clause at FAR 52.232-27, Prompt Payment for Construction Contracts, require contractors to notify the Government regarding any withheld amounts of a progress payment to a subcontractor, the specific cause for the withholding, and the remedial action to be taken by the subcontractor.

The information provided under these two clauses is used to determine the proper amount of payments to Federal contractors and understand when the contractor withholds amounts from subcontractors/suppliers after the Government has already paid the contractor the amounts withheld.

C. Annual Burden

Respondents: 13,847.

Responses per Respondent: 16.

Total Annual Responses: 214,672.

Hours per Response: .33.

Total Burden Hours: 70,842.

Obtaining Copies: Requesters may obtain a copy of the information collection documents from the General Services Administration, Regulatory Secretariat Division (MVCB), 1800 F Street NW, Washington, DC 20405, at 202-501-4755. Please cite OMB Control No. 9000-0102, Prompt Payment, in all correspondence.

Dated: May 8, 2019.
Janet Fry,
Director, Federal Acquisition Policy Division, Office of Governmentwide Acquisition Policy, Office of Acquisition Policy, Office of Governmentwide Policy.

[FR Doc. 2019-09851 Filed 5-13-19; 8:45 am]

BILLING CODE 6820-EP-P